DEPARTMENT OF COMMERCE

International Trade Administration

[A-570-929]

Small Diameter Graphite Electrodes From the People's Republic of China: Notice of Rescission of Antidumping Duty Administrative Review; 2017-2018

AGENCY: Enforcement and Compliance, International Trade Administration, Department of Commerce.

SUMMARY: The Department of Commerce (Commerce) is rescinding the administrative review of the antidumping duty order on small diameter graphite electrodes from the People's Republic of China (China) for the period February 1, 2017, through January 31, 2018, based on the timely withdrawal of the requests for review.

DATES: Applicable August 22, 2018.

FOR FURTHER INFORMATION CONTACT: Dennis McClure or John Anwesen, AD/CVD Operations, Office VIII, Enforcement and Compliance, International Trade Administration, U.S. Department of Commerce, 1401 Constitution Avenue NW, Washington, DC 20230; telephone: (202) 482-5973 or (202) 482-0131, respectively.

SUPPLEMENTARY INFORMATION:

Background

On February 26, 2009, Commerce published in the Federal Register the antidumping duty order on small diameter graphite electrodes from China.¹ On February 1, 2018, Commerce published a notice of opportunity to request an administrative review of the antidumping duty order on small diameter graphite electrodes from China for the period of review February 1, 2017, through January 31, 2018.²

¹ See Antidumping Duty Order: Small Diameter Graphite Electrodes from the People's Republic of China, 74 FR 8775 (February 26, 2009).

² See Antidumping or Countervailing Duty Order, Finding, or Suspended Investigation; Opportunity to Request Administrative Review, 83 FR 4639 (February 1, 2018).

On February 28, 2018, Tokai Carbon GE LLC (the petitioner) ³ requested an administrative review of the order for 192 producers and/or exporters of the subject merchandise, including Fushun Jinly Petrochemical Carbon Co., Ltd.⁴ In addition, on February 28, 2018, producer and exporter Fushun Jinly Petrochemical Carbon Co., Ltd. (Fushun Jinly) requested a review of itself.⁵ On April 16, 2018, in accordance with section 751(a) of the Tariff Act of 1930, as amended (the Act), and, we initiated an administrative review of the order on small diameter graphite electrodes from China with respect to 193 companies.⁶ On May 4, 2018, the petitioner withdrew its administrative review request with respect to all companies except Fushun Jinly,⁷ and on June 26, 2018, we rescinded the administrative review request for all companies, except Fushun Jinly.⁸ On July 17, 2018, the petitioner withdrew its administrative review request for Fushun Jinly.⁹ Additionally, on July 17, 2018, Fushun Jinly withdrew its administrative review request of itself.¹⁰

³ Formerly, SGL Carbon LLC and Superior Graphite Co.

⁴ See the petitioner's submission, “Small Diameter Graphite Electrodes from the People's Republic of China—Request for Initiation of Antidumping Administrative Review,” dated February 28, 2018. The petitioner's review request included Fushun Jinli Petrochemical Carbon Co., Ltd. (emphasis added).

⁵ See Fushun Jinly Petrochemical Carbon Co., Ltd.'s, “Small Diameter Graphite Electrodes from the People's Republic of China: Request for an Administrative Review,” dated February 28, 2018. For purposes of this review, we are treating Fushun Jinli Petrochemical Carbon Co., Ltd. and Fushun Jinly Petrochemical Carbon Co., Ltd. as the same respondent company. In a prior administrative review of electrodes from China, we found that Fushun Jinly Petrochemical Carbon Co., Ltd. is the same entity as Fushun Jinli Petrochemical Carbon Co., Ltd. See, e.g., Small Diameter Graphite Electrodes from the People's Republic of China: Final Results of the Antidumping Duty Administrative Review, 77 FR 40854, 40856 n.3 (July 11, 2012). Consistent with this determination, and in the absence of contrary evidence, we are continuing to treat these companies as the same entity. See also Memorandum, “Antidumping Duty Administrative Review: Small Diameter Graphite Electrodes form the People's Republic of China—Respondent Selection,” dated May 15, 2018.

⁶ See Initiation of Antidumping and Countervailing Duty Administrative Reviews, 83 FR 16298 (April 16, 2018). Because the petitioner requested a review for Fushun Jinli Petrochemical Carbon Co., Ltd. and Fushun Jinly requested a review of itself under the name Fushun Jinly Petrochemical Carbon Co., Ltd., we initiated a review with respect to 193 companies.

⁷ See the petitioner's submission, “Small Diameter Graphite Electrodes from the People's Republic of China: Petitioner's Withdrawal of Certain Requests for Review,” dated May 4, 2018.

⁸ See Small Diameter Graphite Electrodes From the People's Republic of China: Notice of Partial Rescission of Antidumping Duty Administrative Review; 2017-2018, 83 FR 29747 (June 26, 2018).

⁹ See the petitioner's submission, “Small Diameter Graphite Electrodes from the People's Republic of China—Petitioner's Withdrawal of Request for Review,” dated July 17, 2018.

¹⁰ See Fushun Jinly's submission, “Small Diameter Graphite Electrodes from the People's Republic of China: Withdrawal of Administrative Review Request,” dated July 17, 2018.

Rescission of Administrative Review

Pursuant to 19 CFR 351.213(d)(1), the Secretary will rescind an administrative review, in whole or in part, if the party that requested the review withdraws its request within 90 days of the date of publication of the notice of initiation of the requested review. In this case, the petitioner and Fushun Jinly timely withdrew their review requests by the 90-day deadline. No other parties requested an administrative review of the antidumping duty order on small diameter graphite electrodes from China. Therefore, we are rescinding the administrative review of the antidumping duty order on small diameter graphite electrodes from China for the period February 1, 2017, through January 31, 2018.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Orders

This notice also serves as a reminder to parties subject to administrative protective order (APO) of their responsibility concerning the disposition of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

This notice is issued and published in accordance with sections 751(a)(1) and 777(i)(1) of the Act, and 19 CFR 351.213(d)(4).

Dated: August 17, 2018.
James Maeder,
Associate Deputy Assistant Secretary for Antidumping and Countervailing Duty Operations performing the duties of Deputy Assistant Secretary for Antidumping and Countervailing Duty Operations.

[FR Doc. 2018-18093 Filed 8-21-18; 8:45 am]

BILLING CODE 3510-DS-P